DEPARTMENT OF COMMERCE

Foreign-Trade Zones Board

[B-31-2012]

Foreign-Trade Zone 235—Lakewood, NJ: Notification of Proposed Production Activity; Cosmetic Essence Innovations, LLC (Fragrance Bottling); Holmdel, NJ

Cosmetic Essence Innovations, LLC (CEI) has submitted a notification of proposed production activity for their facility located in Holmdel, New Jersey. The CEI facility is located within Site 8 of FTZ 235. The facility is used for the blending and bottling of fragrances. Components and materials sourced from abroad include: plastic bottles; glass bottles; plastic caps and lids; metal caps and lids; plastic collars; sprayers; pumps; and, decorative charms on chains (duty rate ranges from duty-free to 5.3%).

Production under FTZ procedures could exempt CEI from customs duty payments on the foreign status components used in export production. On its domestic sales, CEI would be able to choose the duty rates during customs entry procedures that apply to bottles of fragrance (duty-free) for the foreign status inputs noted above. Customs duties also could possibly be deferred or reduced on foreign status production equipment.

Public comment is invited from interested parties. Submissions shall be addressed to the Board's Executive Secretary at the address below. The closing period for their receipt is June 18, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: May 1, 2012.
Andrew McGilvray,
Executive Secretary.

[FR Doc. 2012-10953 Filed 5-4-12; 8:45 am]

BILLING CODE P